DEPARTMENT OF LABOR

Employment and Training Administration

[TA-W-64,482]

APV North America, Inc. Including On-Site Leased Workers From Adecco USA; Lake Mills, WI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 19, 2008, applicable to workers of APV North America, Inc., Lake Mills, Wisconsin. The notice was published in the Federal Register on January 14, 2009 (74 FR 2136).

At the request of the State agency, the Department reviewed the certification for workers of the subject firm. The workers manufacture homogenizers, pumps and valves for the sanitary industry.

The intent of the Department's certification is to include all workers of the subject firm adversely affected by the shift in production of homogenizers and valve components for the sanitary industry to Germany.

New information shows that workers leased from Adecco USA were employed on-site at the Lake Mills, Wisconsin, location of APV North America, Inc. The Department has determined that these workers were sufficiently under the control of the subject firm to be considered leased workers.

Based on these findings, the Department is amending this certification to include workers leased from Adecco North America working on-site at the Lake Mills, Wisconsin, location of the subject firm.

The amended notice applicable to TA-W-64,482 is hereby issued as follows:

“All workers of APV North America, Inc., including on-site leased workers from Adecco USA, Lake Mills, Wisconsin, who became totally or partially separated from employment on or after November 18, 2007, through December 19, 2010, are eligible to apply for adjustment assistance under Section 223 of the Trade Act of 1974, and are also eligible to apply for alternative trade adjustment assistance under Section 246 of the Trade Act of 1974.”

Signed at Washington, DC this 4th day of May 2009.
Linda G. Poole,
Certifying Officer, Division of Trade Adjustment Assistance.

[FR Doc. E9-11434 Filed 5-15-09; 8:45 am]

BILLING CODE 4510-FN-P